FEDERAL COMMUNICATIONS COMMISSION

47 CFR Part 1

[File No. CCB/CPD No. 00-1; FCC 06-98]

Payphone Line Rates; New Services Test

AGENCY: Federal Communications Commission.

ACTION: Final rule.

SUMMARY: The Commission issued this document responding to a petition for correction submitted by Verizon, Inc. and a petition for reconsideration submitted by the Wisconsin Pay Telephone Association (WPTA). The Commission granted Verizon's petition to correct the order by clarifying that Verizon's affiliate, Verizon North, is not a Bell Operating Company (BOC) by definition of the Act. The Commission denied the WPTA's petition for reconsideration of the Commission's decision that the Wisconsin Public Utility Commission should properly determine BOC intrastate payphone line rates in the State of Wisconsin to determine compliance with the new services test established by the Commission.

DATES: Effective August 25, 2006.

FOR FURTHER INFORMATION CONTACT: Ana Janckson-Curtis, Wireline Competition Bureau, Pricing Policy Division, (202) 418-1530.

SUPPLEMENTARY INFORMATION: This is a summary of the Commission's order on reconsideration in File No. CCB/CPD No. 00-01 released on July 7, 2006. The full text of this document is available on the Commission's Web site and for public inspection during regular business hours in the FCC Reference Center, Room CY-A257, 445 Twelfth Street, SW., Washington, DC 20554.

Procedural Matters

Paperwork Reduction Act Analysis

This document does not contain new or modified information collection requirements subject to the Paperwork Reduction Act of 1995 (PRA), Public Law 104-13. In addition, therefore, it does not contain any new or modified “information collection burden for small business concerns with fewer than 25 employees,” pursuant to the Small Business Paperwork Relief Act of 2002, Public Law 107-198, 44 U.S.C. 3506(c)(4).

Report to Congress

The Commission will not send a copy of this order on reconsideration pursuant to the Congressional Review Act, see 5 U.S.C. 801(a)(1)(A), because the adopted rules are rules of particular applicability.

Background

In the Wisconsin Order, the Commission affirmed a Common Carrier Bureau order holding that section 276 of the Act grants this Commission jurisdiction to require BOCs to set their intrastate payphone line rates in compliance with the Commission's cost-based, forward-looking “new services” test. The Commission also found, however, that it lacks authority to impose this requirement on non-BOC LECs. The order also provided guidance to the states regarding application of the new services test.

Discussion

The Act defines “Bell operating company” to include 20 companies specifically named in the statute, as well as “any successor or assign of such company that provides wireline exchange service,” but it expressly excludes “an affiliate of such company” other than one of the named companies or their successors or assigns. As a result of a merger between GTE and Verizon, GTE North was renamed Verizon North and became an affiliate of Verizon, but it is not one of the companies defined as a BOC, nor is it a successor or assign of Verizon. Accordingly, the Commission concluded that Verizon North is not a BOC, and it is not within this Commission's jurisdiction to mandate application of the new services test to its intrastate payphone line rates.

The Wisconsin Commission has concluded that it has jurisdiction to determine whether payphone line rates comply with the new services test. It has also undertaken investigations and issued a Notice of Proceeding and Investigation and Assessment of Costs to Wisconsin Bell d/b/a SBC Wisconsin. This action is consistent with the Commission's previously stated view that payphone line rates should, to the extent possible, be reviewed by the appropriate state commission. In light of the decision of the Wisconsin Commission to review intrastate payphone line rates, and the actions of the Wisconsin Commission in undertaking investigations, the Commission denied the WPTA's request to evaluate Ameritech's and Verizon's payphone line rates.

Conclusion

This order grants Verizon's petition for correction by clarifying that the Commission's jurisdiction to mandate application of the new services test to intrastate payphone line rates does not extend to Verizon North, previously known as GTE North. Verizon North is not a BOC under the Act.

The order also denies the WPTA's petition for reconsideration, which asks the Commission to review cost support materials submitted by Verizon and Ameritech, and defers to the Wisconsin Commission to determine whether Ameritech's payphone line rates comply with the new services test established by the Commission and whether the new services test should apply to the payphone line rates of other Wisconsin LECs.

Ordering Clauses

Accordingly, it is ordered, pursuant to sections 4(i), 4(j), and 276 of the Communications Act of 1934, as amended, 47 U.S.C. 154(i), 154(j), and 276, and § 1.106 of the Commission's rules, 47 CFR 1.106, that the petition for correction filed by Verizon is granted as discussed herein.

It is also ordered that, for the reasons stated above, the WPTA petition for reconsideration is denied.

Federal Communications Commission.
Marlene H. Dortch,
Secretary.

[FR Doc. E6-11899 Filed 7-25-06; 8:45 am]

BILLING CODE 6712-01-P